DEPARTMENT OF COMMERCE

National Oceanic and Atmospheric Administration

Membership of the National Oceanic and Atmospheric Administration Performance Review Board

AGENCY: National Oceanic and Atmospheric Administration (NOAA), Department of Commerce

ACTION: Notice of Membership of NOAA Performance Review Board.

SUMMARY: In accordance with 5 U.S.C. 4314(c)(4), NOAA announces the appointment of twenty-five members to serve on the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees. The appointment of members to the NOAA PRB will be for a period of 24 months.

EFFECTIVE DATE: The effective date of service of the twenty-five appointees to the NOAA Performance Review Board is October 7, 2005.

FOR FURTHER INFORMATION CONTACT: Claudia McMahon, Executive Resources Program Manager, Workforce Management Office, NOAA, 1305 East-West Highway, Silver Spring, Maryland 20910, (301) 713-0530 (ext. 204).

SUPPLEMENTARY INFORMATION: The names and position titles of the members of the NOAA PRB are set forth below (all are NOAA officials except Tyra Smith, Director, Human Resources, Bureau of the Census, Department of Commerce; William J. Fleming, Deputy Director for Human Resources Management, Office of Human Resources Management, Department of Commerce:

John E. Oliver, Jr.: Deputy Assistant Administrator for Operations, National Marine Fisheries Service

John L. Hayes: Deputy Assistant Administrator for Oceanic and Atmospheric Research, Office of Oceanic and Atmospheric Research

Louisa Koch: Director, Office of Education, Office of Deputy Under Secretary

John E. Jones, Jr.: Deputy Assistant Administrator for Weather Services, National Weather Service

Charles Baker: Acting Deputy Assistant Administrator, National Environmental Satellite, Data and Information Service

Bonnie Morehouse: Director, Program Analysis & Evaluation, Office of NOAA Finance and Administration

Daniel J. Basta: Director, Office of National Marine Sanctuaries, National Ocean Service

William J. Brennan: Deputy Assistant Secretary for International Affairs, Office of International Affairs

Maureen Wylie: Chief Financial Officer, Office of the Chief Financial Officer

Tyra Smith: Director, Human Resources, Bureau of the Census

David Kennedy: Director, Office of Response and Restoration, National Ocean Service

Ron Baird: Director, National Sea Grant College Program, Office of Oceanic and Atmospheric Research

Helen M. Hurcombe: Director, Acquisition and Grants Office, Office of Acquisition and Grants

Ants Leetmaa: Director, Geophysical Fluid Dynamics Laboratory, Office of Oceanic and Atmospheric Research

Gregory Mandt: Director, Office of Climate, Water and Weather Services, National Weather Service

Louis W. Uccellini: Director, National Centers for Environmental Prediction, National Weather Service

Rebecca Lent: Director, Office of International Affairs, National Marine Fisheries Service

Steven Murawski: Director of Scientific Programs and Chief Science Advisor, National Marine Fisheries Service

William Broglie: Chief Administrative Officer, Office of the Chief Administrative Officer

Kathleen Kelly: Director, Office of Satellite Operations, National Environmental Satellite, Data and Information Service

Jordan P. St. John: Director, Office of Public and Constituent Affairs, Office fo Public and Constituent Affairs, NOAA

Timothy R.E. Keeney: Deputy Assistant Secretary of Commerce for Oceans and Atmosphere, Office of the Deputy Under Secretary

Steven Gallagher: Director, Budget Office, Office of the Chief Financial Officer

Donald E. Hout: Director, Ocean and Coastal Resource Management, National Ocean Service

William J. Fleming: Deputy Director for Human Resources Management, Department of Commerce

Dated: September 23, 2005.
Conrad C. Lautenbacher, Jr.,
Vice Admiral, U.S. Navy (Ret.), Under Secretary of Commerce for Oceans and Atmosphere.

[FR Doc. 05-19549 Filed 9-29-05; 8:45 am]

BILLING CODE 3510-12-M